DEPARTMENT OF COMMERCE

International Trade Administration

(A-485-803)

Notice of Final Results of Antidumping Duty Administrative Review and Final Partial Rescission: Certain Cut-to-Length Carbon Steel Plate from Romania

AGENCY: Import Administration, International Trade Administration, Department of Commerce.

SUMMARY: On September 11, 2006, the Department of Commerce (“the Department”) published the preliminary results of the administrative review of the antidumping duty order on certain cut-to-length carbon steel plate (“cut-to-length plate”) from Romania. The review covers Mittal Steel Galati, S.A. (“MS Galati”) a Romanian producer/exporter of the subject merchandise. This administrative review also covers Metalexportimport SA (“MEI”), an unaffiliated exporter for which the Department is rescinding this review. The period of review is August 1, 2004, through July 31, 2005.

EFFECTIVE DATE: February 12, 2007

FOR FURTHER INFORMATION CONTACT: Dena Crossland or John Drury, AD/CVD Operations, Office 7, Import Administration, International Trade Administration, U.S. Department of Commerce, 14th Street & Constitution Avenue, NW, Washington, DC 20230; telephone: (202) 482-3362 or (202) 482-0195, respectively.

SUPPLEMENTARY INFORMATION:

Background

On September 11, 2006, the Department published the preliminary results of the administrative review of the antidumping duty order on cut-to-length plate from Romania. See Certain Cut-to-Length Carbon Steel Plate from Romania: Preliminary Results of the Antidumping Duty Administrative Review and Partial Rescission, 71 FR 53377 (September 11, 2006) (“Preliminary Results”). We invited interested parties to comment on the Preliminary Results.

On October 11, 2006, we received case briefs from MS Galati and the domestic interested party IPSCO Steel Inc. (“IPSCO”). Additionally, on October 11, 2006, we received a letter from petitioner, Nucor Corporation (“Nucor”), stating its support for the case brief filed by IPSCO. We received rebuttal briefs from IPSCO, Nucor, and MS Galati on October 18, 2006. On October 11, 2006, MS Galati requested a public hearing in this review, but withdrew its request on October 20, 2006. Therefore, no public hearing was held.

Final Partial Rescission

We preliminarily determined to rescind the review with respect to MEI because we found during verification that MEI is not the producer of subject merchandise, MEI does not take title to the merchandise which MS Galati exports through MEI, and MS Galati has knowledge of the destination of its subject merchandise exports. See Preliminary Results. No parties commented on this issue. Therefore, we have received no new information or evidence of changed circumstances that would cause the Department to reconsider that determination. Thus, we are finally rescinding the administrative review with respect to MEI.

Scope of the Order

The products covered by this order include hot-rolled carbon steel universal mill plates (i.e., flat-rolled products rolled on four faces or in a closed box pass, of a width exceeding 150 millimeters but not exceeding 1,250 millimeters and of a thickness of not less than 4 millimeters, not in coil and without patterns in relief), of rectangular shape, neither clad, plated nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the HTS under item numbers 7208.31.0000, 7208.32.0000, 7208.33.1000, 7208.33.5000, 7208.41.0000, 7208.42.0000, 7208.43.0000, 7208.90.0000, 7210.70.3000, 7210.90.9000, 7211.11.0000, 7211.12.0000, 7211.21.0000, 7211.22.0045, 7211.90.0000, 7212.40.1000, 7212.40.5000, and 7212.50.0000. Included under this order are flat-rolled products of nonrectangular cross-section where such cross-section is achieved subsequent to the rolling process (i.e., products which have been “worked after rolling”)--for example, products which have been bevelled or rounded at the edges. Excluded from this review is grade X-70 plate. These HTS item numbers are provided for convenience and customs purposes. The written description remains dispositive.

Analysis of Comments Received

The issues raised in the case briefs by parties to this administrative review are addressed in the Issues and Decision Memorandum to David M. Spooner, Assistant Secretary for Import Administration, from Stephen Claeys, Deputy Assistant Secretary (“Decision Memorandum”), which is hereby adopted by this notice. A list of the issues addressed in the Decision Memorandum is appended to this notice. The Decision Memorandum is on file in the Central Records Unit in Room B-099 of the main Commerce building, and can also be accessed directly on the Web at http://ia.ita.doc.gov/frn. The paper copy and electronic version of the Decision Memorandum are identical in content.

Use of Facts Available

As further discussed below, pursuant to section 776(a)(2)(D) of the Act, the Department finds that the use of facts available (“FA”) is appropriate with regard to MS Galati's inland freight from the plant to the port of exportation expenses for its U.S. sales. Section 776(a)(2) of the Act, provides that, if an interested party: (A) withholds information that has been requested by the Department; (B) fails to provide such information in a timely manner or in the form or manner requested; (C) significantly impedes a proceeding under the antidumping statute; or (D) provides such information but the information cannot be verified, the Department shall, subject to subsection 782(d) of the Act, use facts otherwise available in reaching the applicable determination. Section 782(d) of the Act provides that the Department must inform the interested party of the nature of any deficiency in its response and, to the extent practicable, allow the interested party to remedy or explain such deficiency.

We find that pursuant to section 776(a)(2)(D) of the Act, the application of FA is warranted for the calculation of MS Galati's inland freight expense because MS Galati provided information that could not be fully verified. In MS Galati's section C questionnaire response, it provided data for its inland freight to port expenses (field DINLFTP1U in the U.S. market sales database). Prior to verification, the Department requested, at page 13 of its verification outline, that MS Galati be prepared to provide documentation to support its inland freight to port calculation. During verification, MS Galati stated that it was unable to segregate the freight charges for one of its transportation providers because the provider issued invoices to MS Galati that were not itemized. See Memorandum to the File from John Drury and Dena Crossland, Case Analysts, Regarding Verification of the Home Market and U.S. Sales Responses of Mittal Steel Galati S.A. in the Antidumping Duty Administrative Review of Certain Cut-to-Length Carbon Steel Plate from Romania, dated August 31, 2006, at 37 (“MS Galati Verification Report”). MS Galati submitted tables showing a schedule of expected rates but could not confirm that it paid those rates as reported in the U.S. sales database.

At verification, MS Galati explained that the freight rates charged by its transportation companies vary by distance to the delivery point, and are also based on various discounts from the base price. MS Galati stated that rail shipments contain multiple products and go to multiple destinations. Therefore, unless the transportation company itemizes the bill, MS Galati cannot determine the actual rate paid for freight. While we were able to verify the freight rates for one transportation company, we were unable to verify the freight rates for another transportation company that issued invoices to MS Galati without segregating the charges. In the Preliminary Results, we applied the base freight rate for the transportation company that did not provide itemized invoices to MS Galati.

In its October 11, 2006, case brief, MS Galati argued that it was not charged the base freight rate, as shown in Verification Exhibit 33, which the Department used in the Preliminary Results. In its case brief, MS Galati demonstrated that it had paid a certain discounted rate. Pursuant to section 776(a)(2)(D) of the Act, we determine that this discounted rate is the appropriate FA rate to calculate DINLFTP1U for sales involving MS Galati's second transportation company.

Based on the above, we find that MS Galati did not provide information pertaining to its inland freight to port expenses that could be fully verified, within the meaning of section 776(a)(2)(D) of the Act. Additionally, MS Galati has not met the requirements of section 782(d) because it did not provide information to the Department to indicate that its inland freight expenses might be deficient until verification. Because the Department did not find that there were any deficiencies until verification, it was too late to notify MS Galati of these errors, obtain new data, and examine such methodologies and data for deficiencies.

Since MS Galati provided information that could not be fully verified, the Department determines that the application of FA is warranted. However, we cannot conclude that MS Galati did not cooperate to the best of its ability. As such, the Department determines that adverse FA pursuant to section 776(b) of the Act is not warranted. Even though information provided by MS Galati regarding transportation expenses was unverifiable because one of MS Galati's transportation companies did not provide itemized invoices, MS Galati did provide all the information it possessed as it related to transportation expenses, i.e., it acted to the best of its ability. Therefore, we are applying the only discounted rate that could be verified for one of MS Galati's transportation companies as the FA rate for calculating the inland freight to port expense for MS Galati's U.S. sales. For a detailed analysis of the Department's decision to apply FA, see the Analysis Memorandum for the Final Results of the Administrative Review of the Antidumping Duty Order on Certain Cut-to-Length Carbon Steel Plate from Romania, dated January 9, 2007 (“Final Analysis Memo”).

Final Results of Review:

As a result of our review, we determine that the following margin exists for the period of August 1, 2004, through July 31, 2005:

Producer | Margin (Percentage)
Mittal Steel Galati S.A. | 0.05 percent (de minimis)

Assessment

The Department shall determine, and U.S. Customs and Border Protection (“CBP”) shall assess, antidumping duties on all appropriate entries. We will instruct CBP to liquidate entries at the rate indicated above. The Department will issue appropriate assessment instructions directly to the CBP within 15 days of publication of these final results of review.

The Department clarified its “automatic assessment” regulation on May 6, 2003. See Notice of Policy Concerning Assessment of Antidumping Duties, 68 FR 23954 (May 6, 2003) (“Assessment-Policy Notice”). This clarification will apply to entries of subject merchandise during the period of review produced by MS Galati for which MS Galati did not know that the merchandise it sold to an intermediary (e.g., a reseller, trading company, or exporter) was destined for the United States. In such instances, we will instruct CBP to liquidate unreviewed entries at the 75.04 percent all-others rate if there is no rate for the intermediary involved in the transaction. See the Assessment-Policy Notice for a full discussion of this clarification.

Cash Deposit Requirements

Furthermore, the following deposit requirements will be effective upon publication of the final results of this administrative review for all shipments of cut-to-length plate from Romania entered, or withdrawn from warehouse, for consumption on or after the publication date of these final results, as provided by section 751(a) of the Act: (1) for the company covered by this review, the cash deposit rate will be zero; (2) for merchandise exported by producers or exporters not covered in this review but covered in the investigation, the cash deposit rate will continue to be the company-specific rate from the final determination; (3) if the exporter is not a firm covered in this review or the investigation, but the producer is, the cash deposit rate will be that established for the producer of the merchandise for the most recent period; and (4) if neither the exporter nor the producer is a firm covered in this review or the investigation, the cash deposit rate will be 75.04 percent, the “Romania-wide” rate established in the less-than-fair-value investigation. These deposit requirements shall remain in effect until publication of the final results of the next administrative review.

This notice also serves as a final reminder to importers of their responsibility under 19 CFR 351.402 (f)(2) to file a certificate regarding the reimbursement of antidumping duties prior to liquidation of the relevant entries during this review period. Failure to comply with this requirement could result in the Secretary's presumption that reimbursement of antidumping duties occurred, and in the subsequent assessment of double antidumping duties.

This notice also is the only reminder to parties subject to administrative protective order (“APO”) of their responsibility concerning the return or destruction of proprietary information disclosed under APO in accordance with 19 CFR 351.305. Timely written notification of the return/destruction of APO materials or conversion to judicial protective order is hereby requested. Failure to comply with the regulations and the terms of an APO is a sanctionable violation.

We are issuing and publishing these results and notice in accordance with sections 751(a)(1) and 777(i) of the Act.

Dated: February 2, 2007.
David M. Spooner,
Assistant Secretary for Import Administration.

Appendix I

List of Issues in the Decision Memorandum

Issue I. Date of Sale

Issue II. Application of Facts Available for Inland Freight to Port Rate

Issue III. Provisions for Contingent Liabilities

Issue IV. Short-term Interest Income Offset

Issue V. Clerical Error Regarding the Constructed Export Price Offset

Issue VI. Assessment Rate Methodology

[FR Doc. E7-2216 Filed 2-9-02; 8:45 am]

BILLING CODE 3510-DS-S